DEPARTMENT OF ENERGY

Proposed Agency Information Collection

AGENCY: U.S. Department of Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before July 25, 2011. If you anticipate difficulty in submitting comments within that period, contact the person listed in ADDRESSES as soon as possible.

ADDRESSES: Written comments may be sent to: Eva Auman, GC-63; Department of Energy;1000 Independence Ave, SW.; Washington, DC 20585; Fax: 202-586-7373; E-mail: eva.auman@hq.doe.gov.

FOR FURTHER INFORMATION CONTACT: Requests for additional information or copies of the information collection instrument and instructions should be directed to Eva Auman, GC-63; Department of Energy; 1000 Independence Ave., SW.; Washington, DC 20585; Fax: 202-586-7373; E-mail: eva.auman@hq.doe.gov. The draft collection instrument is available for review at the following Web site: http://www1.eere.energy.gov/wip/davis-bacon_act.html#ICR_draftcollectioninstrument.

SUPPLEMENTARY INFORMATION: This information collection request contains: (1) OMB Control Number 1910-New; (2) Information Collection Request Title: Davis-Bacon Semi-annual Labor Compliance Report; (3) Type of Request: Regular; (4) Purpose: All Federal agencies administering programs subject to Davis-Bacon wage provisions are required by 29 CFR part 5, Section 5.7(b) to submit to the Department of Labor (DOL) a semi-annual compliance and enforcement report. In order for DOE to comply with this reporting requirement, it must collect information from Recipients of Recovery Act funded grants, including state and local agencies; Recovery Act funded Loan and Loan Guarantee Borrowers, DOE direct contractors, and other prime contractors that administer DOE programs subject to Davis-Bacon requirements. DOE will require that such entities complete and submit a Semi-annual Labor Standard Enforcement Report each six months; (5) Annual Estimated Number of Respondents: 2,400; (6) Annual Estimated Number of Total Responses: 4,800; (7) Annual Estimated Number of Burden Hours: 9,600; (8) Annual Estimated Reporting and Recordkeeping Cost Burden: $0.

Statutory Authority: All Federal agencies administering programs subject to Davis-Bacon wage provisions are required by 29 CFR part 5, Section 5.7(b) to submit to the Department of Labor (DOL) a semi-annual compliance and enforcement report. In order for DOE to comply with this reporting requirement, it must collect information from Recipients of Recovery Act funded grants, including state and local agencies; Recovery Act funded Loan and Loan Guarantee Borrowers, DOE direct contractors, and other prime contractors that administer DOE programs subject to Davis-Bacon requirements.

Issued in Washington, DC, on May 16, 2011.
LeAnn M. Oliver,
Program Manager, Office of Weatherization and Intergovernmental Program, Energy Efficiency and Renewable Energy.

[FR Doc. 2011-12725 Filed 5-23-11; 8:45 am]

BILLING CODE 6450-01-P